DEPARTMENT OF HOMELAND SECURITY

Coast Guard

33 CFR Part 117

[CGD07-02-077]

RIN 1625-AA09

Drawbridge Operation Regulations; Coronado Beach Bridge (SR 44), Intracoastal Waterway, New Smyrna Beach, FL

AGENCY: Coast Guard, DHS.

ACTION: Final rule.

SUMMARY: The Coast Guard is changing the regulations governing the operation of the Coronado Beach bridge (SR44), Intracoastal Waterway, mile 845, New Smyrna Beach, Florida. This rule requires the bridge to open on signal, except that from 7 a.m. until 7 p.m., each day of the week, the bridge need only open on the hour, twenty minutes past the hour and forty minutes past the hour. This action is intended to improve movement of vehicular traffic while not unreasonably interfering with the movement of vessel traffic.

DATES: This rule is effective May 2, 2003.

ADDRESSES: Comments and material received from the public, as well as documents indicated in this preamble as being available in the docket, are part of docket [CGD7-02-077] and are available for inspection or copying at Commander (obr) Seventh Coast Guard District, 909 SE 1st Ave, Miami, Florida 33131 between 7:30 a.m. and 4 p.m., Monday through Friday, except Federal holidays.

FOR FURTHER INFORMATION CONTACT: Mr. Barry Dragon, Project Manager, Seventh Coast Guard District, Bridge Branch, (305) 415-6743.

SUPPLEMENTARY INFORMATION:

Regulatory Information

On August 7, 2002, we published a notice of proposed rulemaking (NPRM) entitled Drawbridge Operation Regulations; Coronado Beach Bridge (SR 44), Intracoastal Waterway, New Smyrna Beach, Florida in the Federal Register (67 FR 51157). We received twenty-four letters commenting on the proposed rule. No public hearing was requested, and none was held.

Background and Purpose

On behalf of the City of New Smyrna Beach, the New Smyrna Beach Police Chief requested a change in regulations governing the operation of the Coronado Beach bridge (SR44) to ease vehicle traffic congestion on the causeway approaching the bridge and surrounding beachside intersections and roadways. The Coronado Beach bascule bridge is part of a two-lane, narrow, undivided arterial roadway. This roadway is severely congested due to insufficient vehicular capacity and year round tourism. The existing regulation for this bridge is published in 33 CFR 117.5 and requires the bridge to open on signal. The bridge has a vertical clearance of 24 feet at mean high water and a horizontal clearance of 90 feet. This rule will facilitate vehicle traffic by placing the bridge on a predictable 20-minute opening schedule from 7 a.m. until 7 p.m., each day of the week.

Discussion of Comments and Changes

We received twenty-four letters concerning the proposed rule. Twenty-two of the letters supported the proposal. One letter from a commercial fisherman requested that a fifteen-minute schedule be adopted for weekdays and that the bridge open on signal for weekends, with exceptions for U.S. documented vessels with Coast Guard fishery and commercial towing endorsements, and emergency and Coast Guard vessels when the bridge should open on signal. One letter from the American Canadian Caribbean Line, Inc., requested that scheduled passenger vessels be exempt from the twenty-minute schedule.

We have carefully considered the comments and decided not to change the proposed rule. We do not believe that a five-minute difference in scheduled bridge openings will significantly impact vessel traffic and the proposed rule meets the reasonable needs of navigation in the waterways surrounding the bridge. The Coast Guard does not believe there is a sufficient basis for excluding vessels with Coast Guard fishery and commercial towing endorsements from the twenty-minute schedule. Additionally, the weekend vessel traffic does not increase significantly while the vehicular traffic actually increases; therefore, the twenty-minute schedule is warranted for weekends too. Regularly scheduled passenger vessels should have no difficulties timing their departure to make one of the twenty-minute bridge openings.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary because this rule allows for three openings per hour from 7 a.m. until 7 p.m., each day, and openings on signal at all other times.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule may affect the following entities, some of which might be small entities: the owners or operators of vessels intending to transit under the Coronado Beach bridge from the hours of 7 a.m. until 7 p.m. daily, as well as people who drive vehicles over the bridge from 7 a.m. until 7 p.m. daily, and local business owners. The Coast Guard certifies under 5 U.S.C. 605(b) that this rule will not have a significant economic impact on a substantial number of small entities because this rule only slightly modifies the existing bridge operation schedule, the maximum waiting time for vessels to pass will be twenty-minutes from 7 a.m. until 7 p.m., daily, and the average cycle time for a bridge opening is approximately 6 minutes.

Assistance for Small Entities

Under section 213(a) of the Small Business Regulatory Enforcement Fairness Act of 1996 (Public Law 104-121), we offered to assist small entities in understanding the rule so that they could better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector, of $100,000,000 or more in any one year. Although this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.1D, which guides the Coast Guard in complying with the National Environmental Policy Act of 1969 (NEPA) (42 U.S.C. 4321-4307f), and have concluded that there are no factors in this case that would limit the use of a categorical exclusion under section 2.B.2 of the Instruction. Therefore, this rule is categorically excluded, under figure 2-1, paragraph (32)(e), of the Instruction, from further environmental documentation. Under figure 2-1, paragraph (32)(e) of the Instruction, an “Environmental Analysis Check List” and a “Categorical Exclusion Determination” are not required for this rule.

List of Subjects in 33 CFR Part 117

Bridges.

For the reasons discussed in the preamble, the Coast Guard amends 33 CFR Part 117 as follows:

PART 117—DRAWBRIDGE OPERATION REGULATIONS

1. The authority citation for part 117 continues to read as follows:

Authority: 33 U.S.C. 499; Department of Homeland Security Delegation No. 0170; 33 CFR 1.05-1(g); Section 117.255 also issued under authority of Pub. L. 102-587, 106 Stat. 5039.

2. In § 117.261, add paragraph (h) to read as follows:

§ 117.261 Atlantic Intracoastal Waterway from St. Marys River to Key Largo.

* * * * *

(h) Coronado Beach bridge (SR 44), mile 845 at New Smyrna Beach. The Coronado Beach bridge (SR 44), mile 845, shall open on signal, except that from 7 a.m. until 7 p.m., each day of the week, the draw need only open on the hour, twenty minutes past the hour and forty minutes past the hour.

* * * * *

Dated: March 21, 2003.
James S. Carmichael,
Rear Admiral, U.S. Coast Guard, Commander, Seventh Coast Guard District.

[FR Doc. 03-7996 Filed 4-1-03; 8:45 am]

BILLING CODE 4910-15-P